DEPARTMENT OF DEFENSE

Office of the Secretary

[Docket ID DOD-2019-OS-0022]

Privacy Act of 1974; System of Records

AGENCY: Office of Secretary of Defense, DoD.

ACTION: Notice of a Modified System of Records Notice.

SUMMARY: The Department of Defense proposes to add a new routine use to facilitate a computer matching agreement which allows participating State Public Assistance Agencies to identify individuals receiving both federal compensation and pension benefits and public assistance benefits under federal programs administered by the states and to verify public assistance clients' income declarations. The system of records contains personnel, employment, and pay data on current and former military and civilian personnel and survivors and dependents of military personnel. System data is used to conduct computer matches with various agencies in accordance with the Computer Matching and Privacy Protection Act of 1988. This proposed routine use will enable the conducting of a match with state public assistance agencies to continue.

DATES: Comments will be accepted on or before April 10, 2019. This proposed action will be effective on the date following the end of the comment period unless comments are received which result in a contrary determination.

ADDRESSES: You may submit comments, identified by docket number and title, by any of the following methods:

* Federal Rulemaking Portal: http://www.regulations.gov.

Follow the instructions for submitting comments.

* Mail: Department of Defense, Office of the Chief Management Officer, Directorate of Oversight and Compliance, 4800 Mark Center Drive, Mailbox #24, Suite 08D09, Alexandria, VA 22350-1700.

Instructions: All submissions received must include the agency name and docket number for this Federal Register document. The general policy for comments and other submissions from members of the public is to make these submissions available for public viewing on the internet at http://www.regulations.gov as they are received without change, including any personal identifiers or contact information.

FOR FURTHER INFORMATION CONTACT: Ms. Luz D. Ortiz, Chief, Records, Privacy and Declassification Division (RPDD), 1155 Defense Pentagon, Washington, DC 20311-1155, or by phone at (571) 372-0478.

SUPPLEMENTARY INFORMATION: An additional routine use needs to be added to the system of records notice due to a change in the process of transferring data in the execution of the Computer Matching Agreement (CMA #86) also known as the PARIS Agreement. CMA #86 helps identify individuals receiving both federal compensation and pension benefits and public assistance benefits under federal programs administered by the states and to verify public assistance clients' income declarations. This agreement is in accordance with the amended section 1903(r) of the Social Security Act which requires states to maintain eligibility determination systems which provide data matching through the Public Assistance Reporting Information System (PARIS) or a successor system.

The Computer Matching Agreement is between DoD (recipient/matching agency), the Department of Health and Human Services (HHS—facilitating agency) and the state public assistance agencies (SPAAs—source agencies). HHS no longer facilitates the transfer of data; the data transfer is made directly from the SPAAs to DoD. For this reason, the routine use of sharing this information with the SPAAs must be added to the system of records notice.

Dated: March 6, 2019.
Aaron T. Siegel,
Alternate OSD Federal Register Liaison Officer, Department of Defense.

SYSTEM NAME AND NUMBER

Defense Manpower Data Center Data Base, DMDC 01

SECURITY CLASSIFICATION:

Unclassified.

SYSTEM LOCATION:

Naval Postgraduate School Computer Center, Naval Postgraduate School, Monterey, CA 93943-5000.

SYSTEM MANAGER(S):

Deputy Director, Defense Manpower Data Center, DoD Center Monterey Bay, 400 Gigling Road, Seaside, CA 93955-6771.

* * * * *

ROUTINE USES OF RECORDS MAINTAINED IN THE SYSTEM, INCLUDING CATEGORIES OF USERS AND THE PURPOSES OF SUCH USES:

16. To State public assistance agencies to conduct computer matching programs regulated by the Privacy Act of 1974, as amended (5 U.S.C. 552a), for the Public Assistance Reporting Information System (PARIS) for the purpose of determining continued eligibility and help eliminate fraud and abuse in benefit programs by identifying individuals who are receiving Federal compensation or pension payments and also are receiving payments pursuant to Federal benefit programs being administered by the States.

* * * * *

HISTORY:

November 23, 2011, 76 FR 72391; February 27, 2019, 84 FR 6383.

[FR Doc. 2019-04372 Filed 3-8-19; 8:45 am]

BILLING CODE 5001-06-P